COMMODITY FUTURES TRADING COMMISSION

17 CFR Part 4

Commodity Pool Operators and Commodity Trading Advisors; Exemption From Requirement To Register for CPOs of Certain Pools and CTAs Advising Such Pools

Correction

In proposed rule document 02-28820 beginning on page 68785 in the issue of Wednesday November 13, 2002, make the following correction:

On page 68785, in the third column, in the DATES section, in the second line, “ January 13, 2002” should read “January 13, 2003”.

[FR Doc. C2-28820 Filed 11-15-02; 8:45 am]

BILLING CODE 1505-01-D

DEPARTMENT OF TRANSPORTATION

Federal Aviation Administration

14 CFR Part 71

[Airspace Docket No. 02-ACE-8]

Proposed Establishment of Class E2 and Class E4 Airspace and Modification of Existing Class E5 Airspace; Ainsworth, NE; Correction

Correction

In proposed rule document 02-28832 appearing on page 68785 in the issue of Wednesday, November 13, 2002, make the following correction:

On page 68785, in the first column, under the DATES heading, in the third line, “December 5, 2002” should read “December 15, 2002”.

[FR Doc. C2-28832 Filed 11-15-02; 8:45 am]

BILLING CODE 1505-01-D

DEPARTMENT OF TRANSPORTATION

Federal Aviation Administration

Notice of Intent to Rule on Application 02-01-C-00-JLN To Impose and Use the Revenue From a Passenger Facility Charge (PFC) at Joplin Regional Airport, Joplin, MO

Correction

In notice document 02-27729 beginning on page 66450 in the issue of Thursday, October 31, 2002 make the following correction:

On page 66451, in the first column, in the ninth line from the bottom, “$.50 ” should read “$4.50 ”.

[FR Doc. C2-27729 Filed 11-15-02; 8:45 am]

BILLING CODE 1505-01-D